DEPARTMENT OF ENERGY

Federal Energy Regulatory Commission

[Docket No. IC13-16-000]

Commission Information Collection Activities (Ferc-604); Comment Request; Extension

AGENCY: Federal Energy Regulatory Commission, DOE.

ACTION: Notice of information collection and request for comments.

SUMMARY: In compliance with the requirements of the Paperwork Reduction Act of 1995, 44 USC 3506(c)(2)(A), the Federal Energy Regulatory Commission (Commission or FERC) is soliciting public comment on FERC-604, Cash Management Agreements, an existing collection of information that does not have current OMB approval.

DATES: Comments on the collection of information are due July 19, 2013.

ADDRESSES: You may submit comments (identified by Docket No. IC13-16-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-604, Cash Management Agreements.

OMB Control No.: To be determined.

Type of Request: Three-year approval of the FERC-604 information collection requirements.

Abstract: Cash management or “money pool” programs typically concentrate affiliates' cash assets in joint accounts for the purpose of providing financial flexibility and lowering the cost of borrowing.

In a 2001 investigation, FERC staff found that balances in cash management programs affecting FERC-regulated entities totaled approximately $16 billion. Additionally, other investigations revealed large transfers of funds (amounting to more than $1 billion) between regulated pipeline affiliates and non-regulated parents whose financial conditions were precarious. The Commission found that these and other fund transfers and the enormous (mostly unregulated) pools of money in cash management programs could detrimentally affect regulated rates.

To protect customers and promote transparency the Commission issued Order 634-A (2003) requiring entities to formalize in writing and file with the Commission their cash management agreements. The Commission obtained OMB clearance for this new reporting requirement under the FERC-555 information collection (OMB Control No. 1902-0098). However, in subsequent extension requests to OMB for the FERC-555 collection the Commission failed to include the cash management agreement reporting burden as part of the estimates. In this proceeding the Commission rectifies the omission by seeking public comment on the reporting requirement in order to update the OMB clearance for cash management agreement filings. The Commission intends to put the reporting requirements under the collection number, “FERC-604” and request a new OMB Control Number.

The Commission implemented these requirements in 18 CFR 141.500, 260.400, and 357.5.

Type of Respondents: Public utilities, natural gas companies, and oil pipeline companies.

Estimate of Annual Burden ¹: The Commission estimates the total Public Reporting Burden for this information collection as:

¹ The Commission defines burden as the total time, effort, or financial resources expended by persons to generate, maintain, retain, or disclose or provide information to or for a Federal agency. For further explanation of what is included in the information collection burden, reference 5 Code of Federal Regulations 1320.3.

FERC-604, Cash Management Agreements
| Number of respondents annually | Number of responses per respondent | Total number of responses | Average burden hours per response | Estimated total annual burden
| (A) | (B) | (A) × (B) = (C) | (D) | (C) × (D)
Public utilities and licensees, natural gas companies, and oil pipeline companies | ² 25 | 1 | 25 | 1.5 | 37.5

The total estimated annual cost burden to respondents is $3,330 [37.5 hours * $70 per hour ³ = $2,625]

² This figure is based on the number of filings received by the Commission for cash management agreements over the last several years.

³ This is a loaded cost (wages plus benefits) for a full-time employee.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 13, 2013.
Kimberly D. Bose,
Secretary.

[FR Doc. 2013-11882 Filed 5-17-13; 8:45 am]

BILLING CODE 6717-01-P